DEPARTMENT OF DEFENSE

DEPARTMENT OF ENERGY

ENVIRONMENTAL PROTECTION AGENCY

[Docket No. EPA-HQ-OAR-2006-0957]

NUCLEAR REGULATORY COMMISSION

Multi-Agency Radiation Survey and Assessment of Materials and Equipment Manual

AGENCY: Department of Defense, Department of Energy, Environmental Protection Agency, and the Nuclear Regulatory Commission.

ACTION: Notice of availability: Reopening of public comment period.

SUMMARY: On January 16, 2007 (72 FR 1708) the Department of Defense (DoD), Department of Energy (DOE), U.S. Environmental Protection Agency (EPA), and the U.S. Nuclear Regulatory Commission (NRC) announced for public comment the availability of a draft document, entitled the “Multi-Agency Radiation Survey and Assessment of Materials and Equipment Manual” (MARSAME). A 90-day comment period was provided for the draft MARSAME that expired on April 16, 2007. A request for an extension to the comment period has been received from several stakeholders. The comment period for the draft manual has been reopened for an additional 30 days.

DATES: The comment period for the draft manual has been reopened and now expires on June 13, 2007. Comments received after that date will be considered if it is practical to do so, but no assurance can be given for consideration of late comments.

ADDRESSES: Submit your comments by one of the methods:

• www.regulations.gov: Follow the on-line instructions for submitting comments.

• http://www.marsame.org: Follow the on-line instructions for submitting comments.

• Mail: Air and Radiation Docket and Information Center, U.S. Environmental Protection Agency, Mail Code 6102T, 1200 Pennsylvania Ave., NW., Washington, DC 20460 or Chief, Rulemaking, Directives and Editing Branch, Division of Administrative Services, U.S. Nuclear Regulatory Commission, Washington, DC 20555-0001.

• Hand Delivery: Air and Radiation Docket and Information Center, U.S. Environmental Protection Agency, EPA West Building, Room 3334, 1301 Constitution Ave., NW., Washington, DC. Such deliveries are only accepted during the Docket's normal hours of operation, and special arrangements must be made for deliveries of boxed information.

Copies of all comments received by one agency will be periodically copied and sent to the others. Copies of the draft MARSAME and all comments received may be examined or copied for a fee electronically in www.regulations.gov, or in hard copy at the HQ EPA Docket Public Reading Room, U.S. Environmental Protection Agency, Room 3334, Docket ID No. EPA-HQ-OAR-2006-0957, 1301 Constitution Ave., NW., Washington, DC 20460, and the NRC Public Document Room, 11555 Rockville Pike, Rockville, Maryland 20852-2747. The HQ EPA Docket Public Reading Room is open from 8:30 a.m. to 4:30 p.m., Monday through Friday, excluding legal holidays. The telephone number for the EPA HQ Docket Public Reading Room is (202) 566-1744. DOE, EPA, and NRC each have a publication number for MARSAME. They are: For DOE, DOE/EH-707; for EPA, EPA 402-R-06-002; for NRC, NUREG-1575, Sup. 1. A free single copy of the draft MARSAME may be requested by writing to: Distribution and Mail Services Section, U.S. Nuclear Regulatory Commission, Washington, DC 20555-0001 or by fax to (301) 415-2289. The document is also available through the Internet at: http://www.epa.gov/radiation/marssim.

Instructions for Using the EPA Docket: Direct your comments to Docket ID No. EPA-HQ-OAR-2006-0957. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment.

If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. All documents in the docket are listed in the www.regulations.gov index. Although listed in the index, some information is not publicly available, e.g., CBI or other information whose disclosure is restricted by statute. Certain other material, such as copyrighted material, will be publicly available only in hard copy.

Instructions for Using the MARSAME comment Web site: Alternatively, you may submit a comment via the http://www.marsame.org comment system without going through www.regulations.gov. Users of the MARSAME comment Web site will be asked for their name and e-mail address, and then will receive a username and password at the e-mail address that was submitted. User's names and e-mail address will not appear in any public document or database.

FOR FURTHER INFORMATION CONTACT: Any of the following points of contact for each agency for technical information (See ADDRESSES section above for directions on obtaining a copy of the draft MARSAME.): DoD: Steven Doremus, Phone: (757) 887-7745, U.S. Navy, NAVSEADET RASO, NWS, PO Drawer 260, Yorktown, VA 23691-0260; DOE: W. Alexander Williams, Phone: (301) 903-8149, U.S. Department of Energy (EM-23), 1000 Independence Avenue, SW., Washington, DC 20585; EPA: Kathryn Snead; Phone: (202) 343-9228, U.S. Environmental Protection Agency, Mail Stop 6608J, 1200 Pennsylvania Avenue, NW., Washington DC 20460-1000; NRC: George Powers, Phone: (301) 415-6212, U.S. Nuclear Regulatory Commission, Mail Stop T9-C34, Washington DC 20555. Questions concerning the multi-agency document development project should be addressed to CAPT Colleen Petullo, U.S. Environmental Protection Agency/U.S. Public Health Service, OSWER/ERT, PO Box 93478, Las Vegas, NV 89193-3478, (702) 784-8004.

SUPPLEMENTARY INFORMATION: In March 2007, the MARSAME Working Group received a request for a 90-day extension to the comment period from the Nuclear Information and Resource Service filed on behalf of a number of interested parties, including: Alliance for Nuclear Accountability; International Science Oversight Board; Sierra Club Pennsylvania Chapter; BE SAFE/ Center for Health, Env. & Justice; Tri-Valley CAREs; Environmental Coalition on Nuclear Power; Bluesky Institute; Citizen's Environmental Coalition; Coalition on West Valley Nuclear Wastes; and Committee to Bridge the Gap. In April 2007, Rocky Mountain Peace and Justice Center and the Snake River Alliance were added to the request and the MARSAME Working Group received additional requests for a 30-day extension to the comment period from Nuclear Energy Institute, Inc., State of New Jersey Department of Environmental Protection, and State of Washington Department of Health. The requests note that the manual is very important and very technical. The original comment period for the draft manual was 90 days; in general, as proscribed by Executive Order 12889 (December 27, 1993) technical documents are put out for public comment for 75 days. After careful consideration, the agencies have determined that an additional 30 days for review (which now results in a comment period totaling 120 days) to be reasonable and consistent with the agencies' desire to receive informed comments from external stakeholders on the manual. The deadline for comments on any aspect of this manual is extended to June 13, 2007.

For the Department of Defense, dated this 30th day of April, 2007.
Alex Beehler,
Assistant Deputy Under Secretary of Defense (Environment, Safety and Occupational Health).
For the U.S. Department of Energy, dated this 20th day of April 2007.
Andrew C. Lawrence,
Director, Office of Nuclear Safety and Environment, Office of Health, Safety and Security.
For the U.S. Environmental Protection Agency, dated this 20th day of April 2007.
Juan Reyes,
Director, Radiation Protection Division.
For the U.S. Nuclear Regulatory Commission, dated this 24th day of April 2007.
Brian W. Sheron,
Director, Office of Nuclear Regulatory Research.

[FR Doc. 07-2362 Filed 5-11-07; 8:45 am]

BILLING CODE 7590-01-P